DEPARTMENT OF HOMELAND SECURITY

Federal Emergency Management Agency

44 CFR Part 67

[Docket ID FEMA-2010-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The Federal Emergency Management Agency (FEMA) makes the final determinations listed below for the modified BFEs for each community listed. These modified elevations have been published in newspapers of local circulation and ninety (90) days have elapsed since that publication. The Assistant Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in meters (MSL) Modified | Communities affected
Colbert County, Alabama, and Incorporated Areas
Docket No.: FEMA-B-1010
Pond Creek | At Wilson Dam Highway | +514 | City of Muscle Shoals, Unincorporated Areas of Colbert County.
| 0.5 mile downstream of Pepi Drive | +515
Sink Hole 10 | South of 6th Street, between Elledge Lane and Industrial Drive | +493 | City of Muscle Shoals.
Sink Hole 10A | At Oak Villa Drive, approximately 550 feet west of Elledge Lane | +494 | City of Muscle Shoals.
Sink Hole 10B | Bordered by Oak Villa Lane to the south, Oak Villa Drive to the east, and Cypress Street to the north | +494 | City of Muscle Shoals.
Sink Hole 11 | North of 6th Street, between Laurel Oak Drive and Brooke Drive | +498 | City of Muscle Shoals.
Tennessee River | At the U.S. 72 crossing | +431 | Unincorporated Areas of Colbert County.
| At the border between Lauderdale, Colbert, and Lawrence Counties | +509
* National Geodetic Vertical Datum.
+ North American Vertical Datum.
# Depth in feet above ground.
‸ Mean Sea Level, rounded to the nearest 0.1 meter.
ADDRESSES
City of Muscle Shoals
Maps are available for inspection at 2010 East Avalon Avenue, Muscle Shoals, AL 35662.
Unincorporated Areas of Colbert County
Maps are available for inspection at 201 North Main Street, Tuscumbia, AL 35674.
Powell County, Kentucky, and Incorporated Areas
Docket No.: FEMA-B-1025
Red River (at City of Stanton) | Approximately 800 feet downstream of Judy Creek | +641 | Unincorporated Areas of Powell County.
| Approximately 5,400 feet upstream of Hatcher Creek | +651
Red River (at Clay City) | Approximately 3,900 feet downstream of Bert T. Combs Mountain Parkway | +623 | Unincorporated Areas of Powell County.
| Approximately 5,800 feet downstream of Hatton Creek | +632
* National Geodetic Vertical Datum.
+ North American Vertical Datum.
# Depth in feet above ground.
‸ Mean Sea Level, rounded to the nearest 0.1 meter.
ADDRESSES
Unincorporated Areas of Powell County
Maps are available for inspection at 525 Washington Street, Stanton, KY 40380.
Kalamazoo County, Michigan (All Jurisdictions)
Docket No.: FEMA-B-7749
Flowerfield Creek | Approximately 0.6 mile downstream of West YZ Avenue | +843 | Township of Prairie Ronde.
| Approximately 25 feet upstream of 22nd Street | +890
Flowerfield Creek East Tributary | Confluence with Flowerfield Creek | +858 | Township of Prairie Ronde.
| Approximately 100 feet upstream of West W Avenue | +878
Flowerfield Creek West Tributary | Confluence with Flowerfield Creek | +873 | Township of Prairie Ronde.
| Approximately 100 feet upstream of West W Avenue | +886
Gourdneck Lake | Entire shoreline | +853 | Township of Schoolcraft.
Grass Lake | Entire shoreline | +879 | Township of Richland.
Gull Lake | Entire shoreline | +882 | Township of Richland, Township of Ross.
Kalamazoo River | Approximately 75 feet from the upstream side of South 35th Street | +779 | City of Galesburg.
| Approximately 150 feet upstream of Climax Drive | +786
Kalamazoo River | Approximately 600 feet east of the intersection of West G Avenue and North Pitcher Street, at the City of Parchment/Charter Township of Cooper corporate limits | +755 | City of Parchment.
| Approximately 25 feet downstream of East Mosel Avenue | +759
Little Sugarloaf Lake | Entire shoreline | +860 | City of Portage, Township of Schoolcraft.
Spring Creek | Approximately 0.9 mile downstream of South 15th Street | +834 | Township of Schoolcraft.
| Approximately 400 feet upstream of South 14th Street | +855
Sugarloaf (Lower) Lake | Entire shoreline | +859 | Township of Schoolcraft.
Sugarloaf (Upper) Lake | Entire shoreline | +861 | Township of Schoolcraft.
Weeds Lake | Entire shoreline | +882 | Charter Township of Texas.
* National Geodetic Vertical Datum.
+ North American Vertical Datum.
# Depth in feet above ground.
‸ Mean Sea Level, rounded to the nearest 0.1 meter.
ADDRESSES
Charter Township of Texas
Maps are available for inspection at 7110 West Q Avenue, Kalamazoo, MI 49009.
City of Galesburg
Maps are available for inspection at 200 East Michigan Avenue, Galesburg>
City of Parchment
Maps are available for inspection at 650 South Riverview Drive, Parchment, MI 49004.
City of Portage
Maps are available for inspection at 7900 South Westnedge Avenue, Portage, MI 49002.
Township of Prairie Ronde
Maps are available for inspection at 8140 West W Avenue, Schoolcraft, MI 49087.
Township of Richland
Maps are available for inspection at 7401 North 32nd Street, Richland, MI 49083.
Township of Ross
Maps are available for inspection at 12086 East M-89, Richland, MI 49083.
Township of Schoolcraft
Maps are available for inspection at 50 East VW Avenue, Vicksburg, MI 49097.
McKinley County, New Mexico, and Incorporated Areas
Docket No.: FEMA-B-1017
Little Puerco Wash | Approximately 211 feet upstream of the intersection of Mesa Avenue and Little Puerco Wash | +6543 | City of Gallup, Unincorporated Areas of McKinley County.
| Approximately 3,696 feet upstream of the intersection of Mesa Avenue and Little Puerco Wash | +6606
Puerco River | Approximately 2,904 feet upstream of the intersection of Interstate 40 and State Highway 66 | +6469 | City of Gallup, Unincorporated Areas of McKinley County.
| Approximately 1,320 feet upstream of the intersection of Ford Drive and the Puerco River | +6523
Zuni River | Approximately 5,700 feet upstream from Indian Service Route 40 | +6259 | Pueblo of Zuni.
| Approximately 5,016 feet downstream of the Black Rock Lake Reservoir Dam | +6327
* National Geodetic Vertical Datum.
+ North American Vertical Datum.
# Depth in feet above ground.
‸ Mean Sea Level, rounded to the nearest 0.1 meter.
ADDRESSES
City of Gallup
Maps are available for inspection at 110 West Aztec Avenue, Gallup, NM 87301.
Unincorporated Areas of McKinley County
Maps are available for inspection at the Office of the County Manager, 207 West Hill Avenue, Gallup, NM 87301.
Pueblo of Zuni
Maps are available for inspection at the Tribal Court, 1203B State Highway 53, Zuni, NM 87327.
Clark County, Ohio, and Incorporated Areas
Docket No.: FEMA-B-1018
Chapman Creek | 3,300 feet upstream from the confluence with the Mad River | +950 | Unincorporated Areas of Clark County.
| 5,200 feet upstream from the confluence with the Mad River | +959
* National Geodetic Vertical Datum.
+ North American Vertical Datum.
# Depth in feet above ground.
‸ Mean Sea Level, rounded to the nearest 0.1 meter.
ADDRESSES
Unincorporated Areas of Clark County
Maps are available for inspection at the Government Center, 3130 East Main Street, Springfield, OH 45505.
Hamilton County, Ohio, and Incorporated Areas
Docket No.: FEMA-B-1012
Little Miami River | 65 feet upstream of the Norfolk and Western railroad crossing | +501 | Unincorporated Areas of Hamilton County, Village of Fairfax, Village of Mariemont.
| 665 feet downstream of Harvard Street in the Village of Mariemont | +501
* National Geodetic Vertical Datum.
+ North American Vertical Datum.
# Depth in feet above ground.
‸ Mean Sea Level, rounded to the nearest 0.1 meter.
ADDRESSES
Unincorporated Areas of Hamilton County
Maps are available for inspection at the County Department of Public Works, 138 East Court Street, Room 800, Cincinnati, OH 45202.
Village of Fairfax
Maps are available for inspection at the Municipal Building, 5902 Hawhorn Avenue, Fairfax, OH 45227.
Village of Mariemont
Maps are available for inspection at the Municipal Building, 6907 Wooster Pike, Mariemont, OH 45227.

(Catalog of Federal Domestic Assistance No. 97.022, “Flood Insurance.”)

Sandra K. Knight,
Deputy Assistant Administrator for Mitigation, Department of Homeland Security, Federal Emergency Management Agency.

[FR Doc. 2010-2477 Filed 2-4-10; 8:45 am]

BILLING CODE 9110-12-P